SECURITIES AND EXCHANGE COMMISSION

[File No. 500-1]

Green Dolphin Systems Corporation; Order of Suspension of Trading

April 26, 2004.

It appears to the Securities and Exchange Commission that there is a lack of current and accurate information concerning the securities of Green Dolphin Systems Corporation (“GDLS”) because of questions regarding the accuracy of assertions by GDLS and by others, in press releases and public statements to investors concerning, among other things, GDLS' business relationship with a national restaurant chain.

The Commission is of the opinion that the public interest and the protection of investors require a suspension of trading in the securities of the above listed company.

Therefore, it is ordered, pursuant to section 12(k) of the Securities Exchange Act of 1934, that trading in the above listed company is suspended for the period from 9:30 a.m. e.d.t. April 26, 2004 through 11:59 p.m. e.d.t., on May 7, 2004.

By the Commission.
J. Lynn Taylor,
Assistant Secretary.

[FR Doc. 04-9713 Filed 4-26-04; 12:52 pm]

BILLING CODE 8010-01-P